DEPARTMENT OF TRANSPORTATION

Federal Transit Administration

Environmental Impact Statement on Transit Improvements in Miami, Florida

AGENCY: Federal Transit Administration, DOT.

ACTION: Notice of intent to prepare an environmental impact statement.

SUMMARY: The Federal Transit Administration (FTA), the Florida Department of Transportation (FDOT), and Miami-Dade Transit (MDT) in issuing this notice to advise that an Environmental Impact Statement (EIS) is being prepared on the proposed Airport/Earlington Heights Connector Project in Miami-Dade County, Florida. The EIS will be prepared in accordance with the National Environmental Policy Act of 1969 (NEPA), as amended.

The EIS will evaluate the following alternatives: a no build alternative; a transportation systems management alternative; three Metrorail extension alternatives from Earlington Heights to the Airport, and a People Mover extension alternative. Scoping will be accomplished through meetings and correspondence with interested persons, organizations, the general public, Federal, State and local agencies.

DATES: Comment Due Date: Written comments on the scope of the alternatives and impacts to be considered should be sent to Aurelio Rodriguez, Project Manager by May 30, 2001. See ADDRESSES below.

Scoping Meetings: Miami-Dade Transit public scoping meetings will be held on Tuesday May 15, 2001 at 12 p.m. and at 7 p.m. at the Miami-Dade Transit office located at 3300 NW 32nd Avenue, First Floor Conference Room, Miami, Florida.

ADDRESSES: Written comments on the project scope should be sent to Mr. Aurelio Rodriguez, Director, Miami-Dade Transit, 111 NW First Street, Suite 910, Miami, Florida 33128-1970. See DATES section above for the location of scoping meeting.

FOR FURTHER INFORMATION CONTACT: Ms. Elizabeth Martin, Community Planner, Federal Transit Administration, (404) 562-3509.

SUPPLEMENTARY INFORMATION:

I. Scoping

The MDT and FTA invite interested individuals, organizations, and federal, state, and local agencies to participate in refining the Airport/Earlington Heights Connector DEIS, including alignment and project locations. Comments should focus on identifying any significant social, economic, or environmental issues related to the alignments. Specific suggestions related to additional alternatives to be examined and issues to be addressed are welcome and will be considered in the final scope for the project. Scoping comments should focus on the issues and alternative for analysis, and not on preference for particular alternatives. Individual preference for particular alternatives should be communicated during the comment period for Draft EIS. Comments may be made at the meeting or in writing no later than May 30, 2001 (see DATES and ADDRESSES above for meeting times and locations and the address for written comments). A scoping information packet is available from Mr. Aurelio Rodriguez of MDT at the address given above in the ADDRESS section or on the MDT internet webpage at http://www.co.miami-dade.fl.us/mdta.

II. Description of Study Area and Project Need

The project area is located in central Miami-Dade County. The limits for the project area extend from NW 42nd Avenue (LeJeune Road) eastward to NW 22nd Avenue and from NW 46th Street southwards to NW 20th Street. The study area is traversed diagonally by the Miami River, in a northwest to southeast direction.

The project proposes a 2.5-mile elevated heavy rail connection from the existing Earlington Heights Metrorail station to the MIC-MIA connector in the proposed MIC transfer station. The project involves planning and environmental investigations, travel demand forecasting, traffic impact analysis, operations and maintenance planning, and financial assessments for the alignment alternatives.

Steady growth in South Florida in recent years has led to increasingly congested streets and highways in Miami-Dade County. Heavy congestion is especially significant during travel destined to MIA and the large employment centers surrounding the airport. Vehicles traveling from south and west Miami-Dade County heading to downtown Miami must travel the same route as vehicles bound for the airport. This traffic congestion will steadily worsen as the streets and highways of Miami-Dade County surpass their carrying capacity. Based on this traffic condition, there is a need to provide an alternative transportation mode between downtown Miami and the airport that offers convenient, rapid and safe travel in place of the automobile.

This project was developed as a means to ease severe congestion on area expressways resulting from increasing passenger travel to and from MIA. The specific goal of the Airport/Earlington Heights Connector project is to provide a public transit connection between the existing Earlington Heights Metrorail station and MIA. The alignments under consideration would connect to the airport via the intermodal transfer center being proposed under the Miami Intermodal Center (MIC) project.

This new connection to the Metrorail system will provide a critical link in passenger travel throughout Miami-Dade County. Passengers traveling to and from MIA will be able to avoid highway congestion through use of the new Airport Connector. By connecting to the Earlington Heights Metrorail Station, passengers will then be able to travel to northern and southern portions of Miami-Dade County. This critical link will also allow passengers to travel directly between MIA and downtown Miami by rail.

The MIA area is one of the largest employment centers in Miami-Dade County. The Earlington Heights connector to the MIC will provide critical access to employment opportunities for transit dependent populations in adjacent residential areas and the cities of Hialeah, Brownsville and Liberty City.

III. Alternatives

The transporation alternatives proposed for consideration in this project area include:

No-Project Alternative—The No-Project Alternative includes the existing street, highway, and transit facilities and services and those transit and highway improvements planned and programmed to be implemented by 2020. This alternative provides the baseline for establishing the environmental impacts of the project, and assumes the following projects will be completed:

• Extension of the Stage 1 Metrorail Line to a new station just west of the Palmetto Expressway, a new park-and-ride facility at that location, and access ramps to and from the north on the Palmetto expressway.

• Increase in Tri-Rail frequencies to 20-minute headways during peak periods between MIA and Mangonia Park Station in West Palm Beach.

Transportation System Management Alternative—The Transportation Systems Management (TSM) Alternative is defined as low cost, operationally oriented improvements to address the identified transportation problems in the corridor. It also provides a baseline against which all of the Build alternatives are evaluated.

• Additional Metrorail service from Dadeland South to the Palmetto Station. The additional service would decrease headways on that segment of the line from 7.5 minutes to 3.75 minutes in peak periods and from 20 minutes to 7.5 minutes in off-peak periods.

• Increased Tri-Rail Service between the MIC and the Tri-Rail/Metrorail Transfer station at NW 79th Street. The train would operate every 15 minutes during peak periods and every 20 minutes during off-peak periods.

• The operation of a bus service between the MIC and the Earlington Heights Metrorail station.

The TSM alternative also includes all improvements identified under the No-Project alternative.

Three Metrorail extension Alternatives—The Metrorail Extension option consists of extending the Stage 1 Metrorail line from the Earlington Heights Station to the Airport. The existing Stage 1 line heads westward from the Earlington Heights Station to NW 27th Avenue at which point it turns northwards and continues along NW 27th Avenue to the Brownsville Station.

Three potential alignments have been proposed to connect the Earlington Heights Station to MIA via the MIC hub:

NW 27th Avenue Alignment—The branch would start from the existing Stage 1 line at Earlington Heights and begin a gradual turn to the south at approximately NW 25th Avenue. The line crosses over SR 112 at NW 26th Avenue and follow a southward path in the median of NW 27th Avenue. The line begins a westerly turn at NW 26th Street and runs westward along NW 24th Street. The line crosses the Miami River in the 3100 block of North River Drive, continues westward north of NW 21st Street, and terminates at the MIC.

NW 32nd Avenue Alignment—This branch would commence at the existing Metrorail line at Earlington Heights, continue westward across NW 27th Avenue, and cross SR 112 at approximately NW 31st Avenue. The line continues southward along NW 32nd Avenue and turn in a southwesterly direction at approximately NW 28th Street. The line crosses the Miami River in the 3200 block of NW North River Drive, heads westwards along NW 22nd Street, and terminates at the MIC.

South Florida Rail Corridor (SFRC) Alignment—The extension of this branch heads westwards from Earlington Heights over NW 27th Avenue, and crosses SR 112 between NW 27th and NW 28th Avenues. The line parallels SR 112 and the proposed SR 112/SR 836 Interconnector to the south and begins its southward path just west of NW 37th Avenue. The line would cross the Miami River just downstream of the existing SFRC Bridge continuing its southward path and terminating at the MIC.

One People Mover Extension Alternative

The People Mover Extension alternative involves the extension of the MIC/MIA Interconnecter Automatic People Mover (APM) system. The alignment would proceed northbound from the MIC, following the alignment that was previously described for the SFRC Metrorail Extension alternative. However, this alternative features the option to terminate at either the Earlington Heights or the Brownsville Metrorail Stations. In the Brownsville Station alternative, the line would turn northwards just west of NW 27th Avenue and follow the existing line to the station.

IV. Probable Effects

The FTA, FDOT, and MDT will evaluate all significant environmental, social, and economic impacts of the alternatives analyzed in the EIS. Primary Structural environmental issues include: environmental justice, neighborhood protection, aesthetics, the bridge crossing over the Miami River, flight path clear zones and glide slopes, recreational greenways, alternative modes of transportation, hydrology and storm water management, archaeological and historic resources, ecological issues. Environmental and social impacts proposed for analysis include land use, zoning, and economic development; secondary development; land acquisition, displacements, and relocation of existing uses; historic; visual and aesthetic qualities; neighborhoods and communities; environmental justice; air quality; noise and vibration; hazardous materials; ecosystems; water resources; energy; safety and security; utilities; traffic and transportation impacts. Impacts on natural areas, rare and endangered species, ground water and potentially contaminated sites, wetlands, and floodplain areas. Potential impacts will be assessed for the long-term operation of each alternative and the short-term construction period. Measures to avoid, minimize, or mitigate any significant adverse impacts will be identified.

V. FTA Procedures

The EIS process will be performed in accordance with applicable laws and Federal Transit Administration regulations and guidelines for preparing an Environmental Impact Statement. The impacts of the project will be assessed, and, if necessary, the scope of the project will be revised or refined to minimize and mitigate any adverse impacts. After its publication, the draft EIS will be available for public review and comment. One or more public hearings will be held during the draft EIS public comment period. On the basis of the draft EIS and comments received, the project will be revised or further refined as necessary and the final EIS prepared.

Issued On: April 24, 2001.
Jerry Franklin,
Regional Administrator.

[FR Doc. 01-10670 Filed 4-27-01; 8:45 am]

BILLING CODE 4910-57-P